SMALL BUSINESS ADMINISTRATION

[Disaster Declaration #10178 and #10179]

Mississippi Disaster Number MS-00005

AGENCY: Small Business Administration.

ACTION: Amendment 4.

SUMMARY: This is an amendment of the Presidential declaration of a major disaster for the State of Mississippi (FEMA-1604-DR), dated 08/29/2005.

Incident: Hurricane Katrina.

Incident Period: 08/29/2005 through 10/14/2005.

Effective Date: 10/27/2005.

Physical Loan Application Deadline Date: 01/11/2006.

EIDL Loan Application Deadline Date: 05/29/2006.

ADDRESSES: Submit completed loan applications to: Small Business Administration, National Processing and Disbursement Center, 14925 Kingsport Road Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Mississippi, dated 08/29/2005 is hereby amended to include the following areas as adversely affected by the disaster:

Primary Counties:

Holmes and Humphreys.

Contiguous Counties:

Mississippi: Leflore, Sunflower, and Washington.

All other information in the original declaration remains unchanged.

(Catalog of Federal Domestic Assistance Numbers 59002 and 59008)
Herbert L. Mitchell,
Associate Administrator for Disaster Assistance.

[FR Doc. 05-22170 Filed 11-7-05; 8:45 am]

BILLING CODE 8025-01-P